DEPARTMENT OF LABOR

Employee Benefits Security Administration

Proposed Extension of Information Collection Requests Submitted for Public Comment

AGENCY: Employee Benefits Security Administration, Department of Labor.

ACTION: Notice.

SUMMARY: The Department of Labor (the Department), in accordance with the Paperwork Reduction Act, provides the general public and Federal agencies with an opportunity to comment on proposed and continuing collections of information. This helps the Department assess the impact of its information collection requirements and minimize the public's reporting burden. It also helps the public understand the Department's information collection requirements and provide the requested data in the desired format. The Employee Benefits Security Administration (EBSA) is soliciting comments on the proposed extension of the information collection requests (ICRs) contained in the documents described below. A copy of the ICRs may be obtained by contacting the office listed in the ADDRESSES section of this notice. ICRs also are available at reginfo.gov (http://www.reginfo.gov/public/do/PRAMain).

DATES: Written comments must be submitted to the office shown in the Addresses section on or before December 21, 2020.

ADDRESSES: G. Christopher Cosby, Department of Labor, Employee Benefits Security Administration, 200 Constitution Avenue NW, Room N-5718, Washington, DC 20210, ebsa.opr@dol.gov, (202) 693-8410, FAX (202) 219-4745 (these are not toll-free numbers).

SUPPLEMENTARY INFORMATION: This notice requests public comment on the Department's request for extension of the Office of Management and Budget's (OMB) approval of ICRs contained in the rules and prohibited transaction exemptions described below. The Department is not proposing any changes to the existing ICRs at this time. An agency may not conduct or sponsor, and a person is not required to respond to, an information collection unless it displays a valid OMB control number. A summary of the ICRs and the current burden estimates follows:

Agency: Employee Benefits Security Administration, Department of Labor.

Title: Delinquent Filer Voluntary Compliance Program.

Type of Review: Extension of a currently approved collection of information.

OMB Number: 1210-0089.

Affected Public: Private Sector.

Respondents: 11,554.

Responses: 11,554.

Estimated Total Burden Cost (Operating and Maintenance): 898,265.

Description: On April 27, 1995, the Department implemented the Delinquent Filer Voluntary Compliance Program (the DFVC Program). Under the DFVC Program, administrators otherwise subject to the assessment of higher civil penalties are permitted to pay reduced civil penalties for voluntarily complying with the annual reporting requirements under Title I of ERISA. The program also helps plan officials understand the law and gives immediate relief from payment of excise taxes under a class exemption.

This information collection requires providing data necessary to identify the plan along with the penalty payment. With respect to most pension plans and welfare plans, the requirement is satisfied by sending, along with the penalty payment, a copy of the delinquent annual report (without attachments or schedules) which is filed with the Department at a different address under the EFAST system. In the event that the plan administrator files the delinquent annual report using a 1998 or prior plan year form, a paper copy of only the first page of the Form 5500 or Form 5500-C, as applicable, should be submitted along with the penalty payment. With respect to “top hat” plans and apprenticeship plans, the requirement is satisfied by sending a completed first page of an annual report form along with the penalty payment.

The Department has received approval from OMB for this ICR under OMB Control No. 1210-0089. The current approval is scheduled to expire on January 31, 2021.

Agency: Employee Benefits Security Administration, Department of Labor.

Title: Request for Assistance from the Department of Labor, Employee Benefits Security Administration.

Type of Review: Extension of a currently approved collection of information.

OMB Number: 1210-0146.

Affected Public: Individual or Households.

Respondents: 7,618.

Responses: 7,618.

Estimated Total Burden Hours: 3,809.

Estimated Total Burden Cost (Operating and Maintenance): 0.

Description: EBSA assists participants in understanding their rights, responsibilities, and benefits under employee benefits laws and intervenes informally on their behalf with the plan sponsor in order to assist them in obtaining the health and retirement benefits to which they may have been inappropriately denied, which can avert the necessity for a formal investigation or a civil action. EBSA has made a request for assistance form available on its website for those wishing to obtain assistance in this manner. This collection of information is an intake form for assistance requests from the public. This information includes the plan type, broad categories of problem type, contact information for responsible parties, and a mechanism for the inquirer to attach relevant documents. The Department has received approval from OMB for this ICR under OMB Control No. 1210-0146. The current approval is scheduled to expire on January 31, 2021.

Agency: Employee Benefits Security Administration, Department of Labor.

Title: Alternative Method of Compliance for Certain Simplified Employee Pensions.

Type of Review: Extension of a currently approved collection of information.

OMB Number: 1210-0034.

Affected Public: Private Sector.

Respondents: 35,660.

Responses: 67,930.

Estimated Total Burden Hours: 21,227.

Estimated Total Burden Cost (Operating and Maintenance): 18,556.

Description: The regulation containing the ICR (29 CFR 2520.104-49) relieves sponsors of certain Simplified Employee Pensions (SEPs) from ERISA's Title I reporting and disclosure requirements by prescribing an alternative method of compliance. This information collection generally requires timely written disclosure to employees eligible to participate in non-model SEPs, including specific information concerning: Participation requirements; allocation formulas for employer contributions; designated contact persons for further information; and, for employer recommended IRAs, specific terms of the IRAs such as rates of return and any restrictions on withdrawals. The Department has received approval from OMB for this ICR under OMB Control No. 1210-0034. The current approval is scheduled to expire on February 28, 2021.

Agency: Employee Benefits Security Administration, Department of Labor.

Title: Employee Retirement Income Security Act of 1974 Section 408(a) Prohibited Transaction Provisions Exemption Application Procedure.

Type of Review: Extension of a currently approved collection of information.

OMB Number: 1210-0060.

Affected Public: Private Sector.

Respondents: 37.

Responses: 17,271.

Estimated Total Burden Hours: 1,852.

Estimated Total Burden Cost (Operating and Maintenance): 1,023,418.

Description: This information collection relates to the Department's regulation governing the procedure for filing and processing of applications for administrative exemptions from the prohibited transaction provisions of the Employee Retirement Income Security Act of 1974 (ERISA), the Internal Revenue Code of 1986 (the Code), and the Federal Employees' Retirement System Act of 1986 (FERSA).

The regulation contains the following collections of information: (1) An applicant for an exemption must disclose information regarding the application and certify that the information is necessary in order for the Department to make an informed determination regarding the application and (2) the applicant must distribute a notice to interested parties, in which participants and beneficiaries are informed of the application for exemption and have an opportunity to respond.

The Department has received approval from OMB for this ICR under OMB Control No. 1210-0060. The current approval is scheduled to expire on February 28, 2021.

Agency: Employee Benefits Security Administration, Department of Labor.

Title: Investment Advice Participants and Beneficiaries.

Type of Review: Extension of a currently approved collection of information.

OMB Number: 1210-0134.

Affected Public: Private Sector.

Respondents: 29,838.

Responses: 21,501,930.

Estimated Total Burden Hours: 2,340,981.

Estimated Total Burden Cost (Operating and Maintenance): 278,939,750.

Description: The Department's final rule allows financial services firms, such as a registered investment adviser, bank, or registered broker-dealer, to provide investment advice on its proprietary investment products or other investments that would result in fees or other payments to the firm, if the firm complies with a fee-leveling requirement or the advice is furnished using a certified computer model.

The regulation contains the following collections of information: (1) A fiduciary adviser must furnish an initial disclosure that provides detailed information to participants about an advice arrangement before initially providing investment advice; (2) a fiduciary adviser must engage, at least annually, an independent auditor to conduct an audit of the investment advice arrangement for compliance with the regulation; (3) if the fiduciary adviser provides the investment advice through the use of a computer model, the fiduciary adviser must obtain the written certification of an eligible investment expert as to the computer model's compliance with certain standards (e.g., applies generally accepted investment theories, unbiased operation, objective criteria) set forth in the regulation before providing the advice; and (4) fiduciary advisers must maintain records with respect to the investment advice provided in reliance on the regulation necessary to determine whether the applicable requirements of the regulation have been satisfied.

The Department has received approval from OMB for this ICR under OMB Control No. 1210-0134. The current approval is scheduled to expire on February 28, 2021.

Agency: Employee Benefits Security Administration, Department of Labor.

Title: Alternative Reporting Methods for Apprenticeship and Training Plans and Top Hat Plans.

Type of Review: Extension of a currently approved collection of information.

OMB Number: 1210-0153.

Affected Public: Private Sector.

Respondents: 1,872.

Responses: 1,872.

Estimated Total Burden Hours: 312.

Estimated Total Burden Cost (Operating and Maintenance): 0.

Description: This information collection relates to the Department's final rule providing an alternative method of compliance with the reporting and disclosure requirements of Title I of ERISA for plan administrators to file “top hat” plan statements and apprenticeship and training plan notices with the Department (29. CFR 2520.104-22(c) and 2520.104-23(c)). Beginning in 2019, the regulations were amended to require the notices and statements to be distributed electronically.

The Department has received approval from OMB for this ICR under OMB Control No. 1210-0153. The current approval is scheduled to expire on February 28, 2021.

Agency: Employee Benefits Security Administration, Department of Labor.

Title: Furnishing Documents to the Secretary of Labor on Request Under Employee Retirement Income Security Act Section 104(a)(6).

Type of Review: Extension of a currently approved collection of information.

OMB Number: 1210-0112.

Affected Public: Private Sector.

Respondents: 831.

Responses: 831.

Estimated Total Burden Hours: 55.

Estimated Total Burden Cost (Operating and Maintenance): 3,451.

Description: Plan administrators of ERISA-covered employee benefit plans are not required to file copies of the summary plan descriptions and summaries of material modifications with the Department that are publicly available. This information collection relates to ERISA section 104(a)(6) and 29 CFR 2520.104a-8, which authorize the Department to request these documents when a participant or beneficiary has requested them from her plan administrator and the administrator has failed or refused to provide them. The Department has received approval from OMB for this ICR under OMB Control No. 1210-0112. The current approval is scheduled to expire on June 30, 2021.

Signed at Washington, DC.
Jeanne Klinefelter Wilson,
Acting Assistant Secretary, Employee Benefits Security Administration, Department of Labor.

[FR Doc. 2020-23191 Filed 10-19-20; 8:45 am]

BILLING CODE 4510-29-P